DEPARTMENT OF COMMERCE

National Institute of Standards and Technology

Agency Information Collection Activities; Submission to the Office of Management and Budget (OMB) for Review and Approval; Comment Request; NIST Invention Disclosure and Inventor Information Collection

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 31, 2022.

ADDRESSES: Interested persons are invited to submit written comments by mail to Maureen O'Reilly, Management Analyst, NIST, by email to PRAcomments@doc.gov. Please reference OMB Control Number 0693-0085 in the subject line of your comments. Do not submit Confidential Business Information or otherwise sensitive or protected information.

FOR FURTHER INFORMATION CONTACT: Requests for additional information or specific questions related to collection activities should be directed to Jeffrey DiVietro, Deputy Director, Technology Partnerships Office, NIST, 100 Bureau Drive, MS 2200, Gaithersburg, MD 20899-2200 or Jeffrey.DiVietro@nist.gov.

SUPPLEMENTARY INFORMATION:

I. Abstract

The NIST DN-45 Invention Disclosure Form is used to collect information pertaining to inventions created by Federal employees or by non-Federally employed individuals who have created an invention using NIST laboratory facilities as NIST Associates. The collection of this information is required to protect the United States rights to inventions created using Federal resources. The information collected on the form allows the Government to determine: (1) if an invention has been created; (2) the status of any statutory bar that pertains to the potential invention or that may pertain to the invention in the future. The information collected may allow the Government to begin a patent application process.

The Inventor Information Sheet is used to collect from individuals who have been named as potential inventors on a NIST Invention Disclosure Form. The collection of this information is used for multiple purposes:

(1) Some of the information may be required to file a patent application, if NIST seeks to protect a federally owned invention, pursuant to 35 U.S.C. 207.

(2) The form, in part, is a statement made by the respondent declaring whether the respondent considers herself/himself to be an inventor.

(3) Some of the information is needed for NIST to determine potential assignees with which NIST would potentially negotiate consolidation of rights and other patent related matters.

(4) Some of the information helps NIST determine under which statutory authority NIST may consolidate rights in an invention with other potential assignees.

(5) Country citizenship information is required to determine whether a Scientific and Technology agreement or treaty with the respondent's country may impact the U.S. Government's rights to the invention.

The information is collected by the Technology Partnerships Office and shared with the Office of Chief Counsel at NIST. The information may also be shared with non-Governmental entities that may have ownership rights to the potential invention. The Government collects this information to execute the policy and objective of the Congress expressed at 35 U.S.C. 200. 35 U.S.C. 207 authorizes Federal agencies to apply for, obtain, and maintain patents or other forms of protection on inventions in which the Federal Government owns a right, title, or interest. 35 U.S.C. 207 also authorizes each Federal agency to undertake all other suitable and necessary steps to protect and administer rights to federally owned inventions on behalf of the Federal government. The information collected through the NIST DN-45 is necessary for NIST to execute the authority granted at 35 U.S.C. 207.

II. Method of Collection

Information is collected by completing the NIST DN-45 form. The form can be completed either by entering information into a Microsoft Word template, or by entering information via an online portal.

III. Data

OMB Control Number: 0693-0085.

Form Number(s): NIST DN-45.

Type of Review: Regular submission, Extension of a current information collection.

Affected Public: Individuals.

Estimated Number of Respondents: Invention Disclosure Form—10 per year.

Inventor Information Form—100 per year.

Estimated Time per Response: Invention Disclosure Form: 3 hours.

Inventor Information Form: 30 minutes.

Estimated Total Annual Burden Hours: Invention Disclosure Form: 30 hours. Inventor Information Form: 50 hours.

Estimated Total Annual Cost to Public: $500.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-18841 Filed 8-30-22; 8:45 am]

BILLING CODE 3510-13-P